DEPARTMENT OF DEFENSE

Defense Logistics Agency

[Requisition No. 03-00337]

Second Notice of Proposed Solicitation for Cooperative Agreement Applications

AGENCY: Defense Logistics Agency, DOD.

ACTION: Proposed solicitation for cost sharing cooperative agreement applications.

SUMMARY: On December 13, 2002, a notice was published in the Federal Register announcing that the Defense Logistics Agency (DLA) intends to issue a solicitation for cooperative agreement applications (SCAA) to assist State and local governments and other nonprofit eligible entities in establishing or maintaining procurement technical assistance centers (PTACs) pursuant to chapter 142, title 10, United States Code. Written comments, that were to be submitted by January 31, 2003, concerning this proposed SCAA were also invited. Comments from four organizations were received. The comments fell into four categories. The first category was editorial changes and corrections. DLA has incorporated most of these as they improve or correct formatting, paragraph numbering, etc. The second category was a suggestion that two thresholds be changed: (1) Increase the funding limitation of $150,000 for less than statewide programs and (2) change the existing requirement that a statewide program service at least 50% of a state's counties and 75% of the state's labor force to 50% of a state's counties or 75% of the state's labor force. Neither of these suggestions will be implemented. The funding limitation is statutory and it is not within DLA's discretion to increase it. The suggestion to change the regulatory definition of statewide program had previously been made and it was determined that such a change would not benefit the overall program. The third category is the suggestion that DLA adopt an award selection methodology that would implement the recently increased funding level authorized for statewide programs while at the same time minimize any disruption to the existing satisfactorily performing programs, both statewide and less than statewide. DLA agrees with this comment and has implemented changes in section II of the SCAA at paragraphs 21 and 28 and in section V, paragraph D. The fourth category was the suggestion that the option award procedures be modified to allow for increases in the amount of DoD funds for which individual programs may apply in option years, should funds be available. DLA agrees with this comment and has implemented changes in section I, paragraph K, and section VIII, paragraph F.

This revised proposed SCAA is available for review on the Internet Web site: http://www.dla.mil/db/draftscaa.pdf.

Printed copies are not available for distribution.

You are invited to submit written comments concerning this proposed revised SCAA to: Headquarters, Defense Logistics Agency, Office of Small and Disadvantaged Business Utilization, 8727 John J. Kingman Road, Suite 1127, Ft. Belvoir, VA 22060-6221. Attn: Grants Officer.

All comments must be received by March 10, 2003, in order for them to be considered. DLA intends to post the proposed SCAA, when finalized, on the Internet in late March or early April 2003. A future notice to be published in the Federal Register will announce this posting and the Web site address to be utilized in accessing the final SCAA and to submit applications.

FOR FURTHER INFORMATION CONTACT: Ms. Diana Maykowskyj at (703) 767-1656.

Anthony J. Kuders,
Program Manager, DoD Procurement Technical Assistance Program.

[FR Doc. 03-3665 Filed 2-13-03; 8:45 am]

BILLING CODE 3620-01-M